NATIONAL SCIENCE FOUNDATION

Special Emphasis Panel in Astronomical Sciences; Notice of Meeting

In accordance with the Federal Advisory Committee Act (Pub. L. 92-463, as amended), the National Science Foundation announces the following meeting:

Name: Special Emphasis Panel in Astronomical Sciences (1186).

Date and Time: October 23, 2000, 10 a.m.-5 p.m., October 24, 2000, 8:30 a.m.-5 p.m.; October 25, 2000, 8:30 a.m.-2 p.m.

Place: Room 920, National Science Foundation, 4201 Wilson Blvd, Arlington, VA 22230.

Type of Meeting: Closed.

Contact Person: Daniel Weedman, Program Manager, Division of Astronomical Sciences, National Science Foundation, 4201 Wilson Boulevard, Arlington, VA 22230. Telephone: 703/292-4909.

Purpose of Meeting: Reserve site visit for National Optical Astronomy Observatory (NOAO) and National Solar Observatory (NSO) for providing advice regarding management of NOAO and NSO by Association of Universities for Research in Astronomy (AURA).

Agenda: To evaluate presentations by NOAO and NSO Directors and AURA President.

Reason for Closing: The presentations being reviewed include information of a proprietary or confidential nature, including financial data such as salaries and personal information concerning individuals associated with NOAO, NSO, and AURA. These matters are exempt under 5 U.S.C. 552b(c), (4) and (6) of the Government in the Sunshine Act.

Dated: September 27, 2000.
Karen J. York,
Committee Management Officer.

[FR Doc. 00-25208 Filed 9-29-00; 8:45 am]

BILLING CODE 7555-01-M